SECURITIES AND EXCHANGE COMMISSION

Sunshine Act Meetings

TIME AND DATE: Notice is hereby given, pursuant to the provisions of the Government in the Sunshine Act, Public Law 94-409, that the Securities and Exchange Commission will hold an Open Meeting on Wednesday, July 13, 2022 at 10:00 a.m.

PLACE: The meeting will be webcast on the Commission's website at www.sec.gov.

STATUS: This meeting will begin at 10:00 a.m. (ET) and will be open to the public via webcast on the Commission's website at www.sec.gov.

MATTERS TO BE CONSIDERED:

1. The Commission will consider whether to adopt amendments to the proxy rules governing proxy voting advice.

2. The Commission will consider whether to propose amendments to update certain substantive bases for exclusion of shareholder proposals under the Commission's shareholder proposal rule (Rule 14a-8).

CONTACT PERSON FOR MORE INFORMATION: For further information and to ascertain what, if any, matters have been added, deleted or postponed, please contact Vanessa A. Countryman from the Office of the Secretary at (202) 551-5400.

Authority: 5 U.S.C. 552b.

Dated: July 6, 2022.
Vanessa A. Countryman,
Secretary.

[FR Doc. 2022-14693 Filed 7-6-22; 4:15 pm]

BILLING CODE 8011-01-P